DEPARTMENT OF THE INTERIOR

Bureau of Land Management

[LLCAD07000 L12200000 PA0000]

Notice of Closure of Airport Mesa/Carizzo Creek Shooting Area in Eastern San Diego County, CA

AGENCY: Bureau of Land Management, Interior.

ACTION: Notice.

SUMMARY: The Bureau of Land Management (BLM) has closed approximately 210 acres of public land described as the Airport Mesa/Carrizo Creek shooting area located in eastern San Diego County, California. The closure order prohibits recreational shooting and target practice. The use of firearms will continue to be allowed for hunting consistent with California Department of Fish and Game regulations and seasons. This closure order is necessary in order to protect U.S. Border Patrol agents as they perform their duties along the top of Airport Mesa.

DATES: The closure order is effective as of June 19, 2012, until June 19, 2014.

FOR FURTHER INFORMATION CONTACT: Daniel Steward, BLM El Centro Field Office, 1661 S. 4th St., El Centro, CA 92243, telephone 760-337-4400.

SUPPLEMENTARY INFORMATION: The BLM recognizes that recreational target shooting is a valid use of public lands, and seeks to balance this with the need to provide for public safety. The BLM El Centro Field Office prepared an environmental assessment (EA) for this temporary closure (DOI-BLM-CA-D070-2012-0058-EA). This 2-year temporary closure will allow the BLM to proceed through a land use plan amendment process and utilize public input to consider a permanent closure of the area and options for alternative shooting areas.

The purpose of this closure order is to protect persons, property, and public land and resources, and the protection of U.S. Border Patrol agents as they perform their duties along the top of Airport Mesa.

The closure order is in accordance with provisions of the Federal Land Policy and Management Act of 1976 (Pub. L. 94-579, 90 stat. 2743, 43 U.S.C. 1701 et. seq.) and 43 CFR 8360.0-7.

The order closes the following public lands in eastern San Diego County to recreational shooting and target practice:

San Bernardino Base and Meridian,

T. 18 S., R. 8 E.,

Sec. 3, S½SW¼SE¼ and S½SE¼SE¼;

Sec. 10, lot 9, N½NE¼, and SE¼NE¼;

Sec. 11, lot 12 and SW¼NW¼.

The areas described aggregate 230.20 acres, according to the official plats of the surveys of the said lands, on file in the Bureau of Land Management.

The following persons are exempt from the identified restrictions:

(1) Federal, State, or local law enforcement officers, while engaged in the execution of their official duties;

(2) BLM personnel or their representatives while engaged in the execution of their official duties;

(3) Any member of an organized rescue, firefighting force, or emergency medical services organization while in the performance of their official duties;

(4) Any person in receipt of a written authorization of exemption obtained from the authorized officer; and

(5) Any person with a legal California hunting license in their possession and in the legal act of hunting.

This Notice and maps of the restricted area will be clearly posted at main entry points to the Airport Mesa shooting area and will also be available at the BLM El Centro Field Office.

Authority: 43 CFR 8364.1; 43 CFR 8360.0-7.

Margaret L. Goodro,
Field Manager.

[FR Doc. 2012-27932 Filed 11-15-12; 8:45 am]

BILLING CODE 4310-40-P